DEPARTMENT OF THE INTERIOR

Bureau of Land Management

[LLWYP070000; L14300000.EU0000; WYW-168374]

Notice of Realty Action: Proposed (Non-Competitive) Direct Sale of Public Land in Campbell County, WY

AGENCY: Bureau of Land Management, Interior.

ACTION: Notice of Realty Action.

SUMMARY: The Bureau of Land Management (BLM) is considering the (non-competitive) direct sale of 4.15 acres of public land in Campbell County, Wyoming, at not less than the appraised fair market value to the Craig G. and Peggy S. Means Revocable Trust.

DATES: In order to ensure consideration in the environmental analysis of the proposed sale, comments must be received by March 21, 2013.

ADDRESSES: Address all written comments concerning this Notice to Field Manager, the BLM, Buffalo Field Office, 1425 Fort Street, Buffalo, WY 82834.

FOR FURTHER INFORMATION CONTACT: Claire Oliverius, Realty Specialist, at the above address, 307-684-1178, or email to doliveri@blm.gov. Persons who use a telecommunications device for the deaf (TDD) may call the Federal Information Relay Service (FIRS) at 1-800-877-8339 to contact the above individual. The FIRS is available 24 hours a day, 7 days a week, to leave a message or question with the above individual. You will receive a reply during normal business hours.

SUPPLEMENTARY INFORMATION: The following-described public land in Campbell County, Wyoming, is proposed for direct sale, subject to the applicable provisions of Sections 203 and 209 of the Federal Land Policy and Management Act of 1976 (FLPMA) and 43 CFR Parts 2711 and 2720:

Sixth Principal Meridian, Wyoming

T. 56 N., R. 73 W.,

Sec. 8, lot 17.

The area described contains 4.15 acres, according to the official plat of the survey of the said land, on file with the BLM.

The proposed (non-competitive) direct sale is in conformance with the BLM Buffalo Resource Management Plan (RMP) approved on October 4, 1985. The parcel is identified for disposal in the RMP Record of Decision, pages 13 and 14 and Map 5 because the lands are isolated public lands surrounded by private lands under single ownership. These isolated lands are difficult and uneconomic for the Federal Government to manage. Additionally, Maintenance Plan Change #20120720 was added to comply with guidelines of the Department of the Interior and the BLM. The Maintenance Plan Change updated the land disposal map and included a text version of all legal descriptions for parcels identified for consideration for disposal. The land, if offered, would be through a (non-competitive) direct sale to the Craig G. and Peggy S. Means Revocable Trust as the final resolution to the unauthorized use, pursuant to 43 CFR 2710.0-6(c)(3)(iii) and 43 CFR 2711.3-3(a)(5). In addition, the Craig G. and Peggy S. Means Revocable Trust are the sole owners of the private lands surrounding the identified parcel of Federal land and pursuant to 43 CFR 2710.0-6(c)(3)(iii) and 43 CFR 2711.3-3(a)(4) a direct sale is appropriate. Conveyance of the identified public land would be subject to valid existing rights and encumbrances of record. Conveyance of any mineral interests, pursuant to Section 209 of the FLPMA, was not proposed, but would be analyzed during processing of the proposed sale.

On February 4, 2013, the above-described land will be segregated from all forms of appropriation under the public land laws, including the mining laws and the mineral leasing laws, except for the sale provisions of the FLPMA. Until completion of the sale action, the BLM is no longer accepting land use applications affecting the identified public land. The temporary segregation will terminate upon issuance of a patent, publication in the Federal Register of a termination of the segregation, or February 4, 2015, unless extended by the BLM Wyoming State Director in accordance with 43 CFR 2711.1-2(d) prior to the termination date.

For a period until March 21, 2013, interested parties and the general public may submit in writing any comments concerning the land being considered for sale, including notification of any encumbrances or other claims relating to the identified land, to the Field Manager, BLM Buffalo Field Office, at the above address. In order to ensure consideration in the environmental analysis of the proposed sale, comments must be in writing and postmarked or delivered within 45 days of the initial date of publication of this Notice. Electronic mail (email) will also be accepted and should be sent to buffalo_wymail@blm.gov with “Campbell County Land Sale” inserted in the subject line. Comments, including names and street addresses of respondents, will be available for public review at the BLM Buffalo Field Office during regular business hours, except holidays.

Before including your address, phone number, email address, or other personal identifying information in your comment, be advised that your entire comment—including your personal identifying information—may be made publicly available at any time. While you may ask in your comment to withhold from public review your personal identifying information, we cannot guarantee that we will be able to do so.

Authority: 43 CFR 2711.1-2 and 43 CFR 2720.1-1(b)

Dated: January 29, 2013.
Donald A. Simpson,
State Director, Wyoming.

[FR Doc. 2013-02320 Filed 2-1-13; 8:45 am]

BILLING CODE 4310-22-P